DEPARTMENT OF HEALTH AND HUMAN SERVICES

Administration for Children and Families

[Office of Management and Budget #: 0970-0488]

Submission for Office of Management and Budget Review; Provision of Child Support Services in IV-D Cases Under the Hague Child Support Convention; Federally Approved Forms

AGENCY: Office of Child Support Enforcement, Administration for Children and Families, U.S. Department of Health and Human Services.

ACTION: Request for Public Comments.

SUMMARY: The Office of Child Support Enforcement is requesting a 3-year extension of the Provision of Child Support Services in IV-D Cases under the Hague Child Support Convention; Federally Approved Forms (Office of Management and Budget (OMB) #:0970-0488, expiration March 31, 2026). There are no changes requested to these forms.

DATES: Comments due March 2, 2026.

ADDRESSES: The public may view and comment on this information collection request at: https://www.reginfo.gov/public/do/PRAViewICR?ref_nbr=202601-0970-009. You can also obtain copies of the proposed collection of information by emailing infocollection@acf.hhs.gov. Identify all emailed requests by the title of the information collection.

SUPPLEMENTARY INFORMATION:

Description: On January 1, 2017, the 2007 Hague Convention on the International Recovery of Child Support and Other Forms of Family Maintenance (the Convention) entered into force for the United States. This multilateral Convention contains provisions that, on a worldwide scale, establish uniform, simple, fast, and inexpensive procedures for processing international child support cases. Under the Convention, U.S. states process child support cases with other countries that have ratified the Convention under the requirements of the Convention and Article 7 of the Uniform Interstate Family Support Act (UIFSA 2008). To comply with the Convention, the United States implements the Convention's case processing forms.

State and Federal law require states to use federally approved case processing forms. Section 311(b) of UIFSA 2008, which has been enacted by all 50 states, the District of Columbia, Guam, Puerto Rico, and the Virgin Islands, requires states to use forms mandated by federal law. 45 CFR 303.7 also requires child support programs to use federally approved forms in intergovernmental IV-D cases unless a country has provided alternative forms as a part of its chapter in a Caseworker's Guide to Processing Cases with Foreign Reciprocating Countries.

Respondents: State agencies administering a child support program under title IV-D of the Social Security Act.

Annual Burden Estimates

Annual burden estimates have been updated to reflect a decrease in the nationwide child support case load since the most recent full OMB review and approval process in 2023. Therefore, the annual number of responses per respondent has decreased, resulting in an overall decrease in estimated annual burden. The number of respondents and estimated time per response has not changed.

Instrument | Total number of respondents | Total annual number of responses per respondent | Average burden hours per response | Total burden hours
Annex I: Transmittal form under Article 12(2) | 54 | 37 | 1 | 1,998
Annex II: Acknowledgment form under Article 12(3) | 54 | 74 | 0.5 | 1,998
Annex A: Application for Recognition and Enforcement, including restricted information on the applicant | 54 | 15 | 0.5 | 405
Annex A: Abstract of Decision | 54 | 4 | 1 | 216
Annex A: Statement of Enforceability of Decision | 54 | 15 | 0.17 | 138
Annex A: Statement of Proper Notice | 54 | 4 | 0.5 | 108
Annex A: Status of Application Report—Article 12 | 54 | 30 | 0.33 | 535
Annex B: Application for Enforcement of a Decision Made or Recognized in the Requested State, including restricted information on the applicant | 54 | 15 | 0.5 | 405
Annex B: Status of Application Report—Article 12 | 54 | 30 | 0.33 | 535
Annex C: Application for Establishment of a Decision, including restricted information on the Applicant | 54 | 4 | 0.5 | 108
Annex C: Status of Application Report—Article 12 | 54 | 7 | 0.33 | 125
Annex D: Application for Modification of a Decision, including Restricted Information on the Applicant | 54 | 4 | 0.5 | 108
Annex D: Status of Application Report—Article 12 | 54 | 7 | 0.33 | 125
Annex E: Financial Circumstances Form | 54 | 37 | 2 | 3,996
Annex F: Request for Specific Measures—Article 7(1) | 54 | 2 | 0.17 | 18
Annex F: Request for Specific Measures—Response—Article 7(1) | 54 | 7 | 0.17 | 64
Estimated Total Annual Burden Hours |  |  |  | 10,882

Authority: 42 U.S.C. 654(20) and 666(f).

Mary C. Jones,
ACF/OPRE Certifying Officer.

[FR Doc. 2026-01800 Filed 1-28-26; 8:45 am]

BILLING CODE 4184-41-P